DEPARTMENT OF JUSTICE

Notice of Lodging of Proposed Modification of Consent Decree under the Comprehensive Environmental Response, Compensation, and Liability Act

On April 26, 2024, the Department of Justice lodged a proposed Agreement and Order Regarding Fourth Modification of Consent Decree with the United States District Court for the Southern District of Texas in the lawsuit entitled United States v. French Limited, Inc., et al., original case No. H-89-2544 (new case No. 4:89-cv-2544).

The original Consent Decree, entered by the Court on March 7, 1990, resolved the United States' claims, on behalf of the United States Environmental Protection Agency (EPA), against eighty-six (86) Settling Defendants under the Comprehensive Environmental Response, Compensation, and Liability Act, as amended (“CERCLA”), 42 U.S.C. 9601 et seq., for contamination at the French Limited Superfund Site located near Crosby, Texas (the Site). Pursuant to the 1990 Consent Decree, Settling Defendants are obligated to perform response activities at the Site as selected by EPA in a Record of Decision signed on March 24, 1988, or have resolved their Site liability through a cash payment. Certain Settling Defendants known as the French Limited Trust Group (Group) remain responsible for ongoing work under the 1990 Consent Decree.

In response to new information, and after notice and consideration of public comments on its proposal, on September 30, 2014, EPA revised the groundwater remedy for the Site through an Amendment to the Record of decision. The proposed Agreement and Order Regarding Fourth Modification of Consent Decree is between the United States and the sixteen Settling Defendants who are signatories to that Agreement and Order and would modify the Consent Decree to reflect the revised work requirements of the 2014 ROD Amendment, provide for the reimbursement to EPA of certain EPA response costs, and provide for the disbursement to members of the working Group of funds received by EPA in a Bankruptcy Settlement payment for the Site.

The publication of this notice opens a period for public comment on the proposed Agreement and Order Regarding Fourth Modification of Consent Decree. Comments should be addressed to the Assistant Attorney General, Environment and Natural Resources Division, and should refer to United States v. French Limited, Inc., et al., Case No. H-89-2544, D.J. Ref. No. 90-11-3-46A. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter. During the public comment period, the Agreement and Order Regarding Fourth Modification of Consent decree may be examined and downloaded at this Justice Department website: https://www.justice.gov/enrd/consent-decrees. If you require assistance accessing the Agreement and Order, you may request assistance by email or by mail to the addresses provided above for submitting comments.

Thomas Carroll,
Assistant Section Chief, Environmental Enforcement Section, Environment and Natural Resources Division.

[FR Doc. 2024-09711 Filed 5-2-24; 8:45 am]

BILLING CODE 4410-15-P